DEPARTMENT OF COMMERCE

International Trade Administration

[C-570-107]

Countervailing Duty Investigation of Wooden Cabinets and Vanities and Components Thereof From the People's Republic of China: Postponement of Preliminary Determination

AGENCY: Enforcement and Compliance International Trade Administration, Department of Commerce.

DATES: Applicable May 17, 2019.

FOR FURTHER INFORMATION CONTACT: Christian Llinas at (202) 482-4877, or Benito Ballesteros at (202) 482-7425, AD/CVD Operations, Enforcement and Compliance, International Trade Administration, U.S. Department of Commerce, 1401 Constitution Avenue NW, Washington, DC 20230.

SUPPLEMENTARY INFORMATION:

Background

On March 26, 2019, the Department of Commerce (Commerce) initiated the countervailing duty (CVD) investigation of wooden cabinets and vanities and components thereof (wooden cabinets and vanities) from the People's Republic of China (China).¹ Currently, the preliminary determination is due no later than May 30, 2019.

¹ See Wooden Cabinets and Vanities and Components Thereof from the People's Republic of China: Initiation of Countervailing Duty Investigation, 84 FR 12581 (April 2, 2019) (Initiation).

Postponement of Due Date for the Preliminary Determination

Section 703(b)(1) of the Tariff Act of 1930, as amended (the Act), requires Commerce to issue the preliminary determination in a CVD investigation within 65 days after the date on which Commerce initiated the investigation. However, in accordance with 19 CFR 351.205(e), section 703(c)(1) of the Act permits Commerce to postpone the preliminary determination until no later than 130 days after the date on which Commerce initiated the investigation if, among other reasons, the petitioner makes a timely request for a postponement, or Commerce concludes that the parties concerned are cooperating and determines that the investigation is extraordinarily complicated. Under 19 CFR 351.205(e), the petitioner must submit a request for postponement 25 days or more before the scheduled date of the preliminary determination and must state the reason for the request. Commerce will grant the request unless it finds compelling reasons to deny the request.²

² See 19 CFR 351.205(e).

In the instant investigation, the petitioner ³ made a timely request on May 2, 2019, that we postpone the preliminary CVD determination.⁴ The petitioner stated that additional time is necessary to allow Commerce to select mandatory respondents and issue initial questionnaires, as well as to allow Commerce sufficient time to review questionnaire responses and request clarification and additional information as necessary.⁵ In accordance with 19 CFR 351.205(e), the petitioner has stated the reasons for requesting a postponement of the preliminary determination, and Commerce finds no compelling reason to deny the request. Therefore, pursuant to section 703(c)(1)(A) of the Act, we are extending the due date for the preliminary determination to no later than 130 days after the date on which this investigation was initiated, i.e., to August 5, 2019.⁶ Pursuant to section 705(a)(1) of the Act and 19 CFR 351.210(b)(1), the deadline for the final determination will continue to be 75 days after the date of the preliminary determination.

³ In this investigation, the petitioner is the American Kitchen Cabinet Alliance and its individual members: ACProducts, Inc., American Woodmark Corporation, Bellmont Cabinet Co., Bertch Cabinet Manufacturing, The Corsi Group, Crystal Cabinet Works, Inc., Dura Supreme Cabinetry, Jim Bishop Cabinets, Inc., Kitchen Kompact, Inc., Koch & Co., Inc., Kountry Wood Products, LLC, Lanz Cabinets Incorporated, Leedo Cabinetry, Marsh Furniture Company, Master WoodCraft Cabinetry LLC, MasterBrand Cabinets, Inc., Nation's Cabinetry, Showplace Wood Products, Inc., Smart Cabinetry, Tru Cabinetry, Wellborn Cabinet, Inc., Wellborn Forest Products, Inc., Woodland Cabinetry, Inc., Woodmont Cabinetry, W. W. Wood Products, Inc. The Alliance also has two additional members, of which the identities are proprietary.

⁴ See the petitioner's Letter, “Wooden Cabinets and Vanities and Components Thereof from the People's Republic of China: Request to Postpone Preliminary Determination,” dated May 2, 2019.

⁵ Id.

⁶ The postponed due date actually falls on August 3, 2019, which is a Saturday. Therefore, the deadline moves to the next business day, August 5, 2019. See Notice of Clarification: Application of “Next Business Day” Rule for Administrative Determination Deadlines Pursuant to the Tariff Act of 1930, as Amended, 70 FR 24533 (May 10, 2008).

This notice is issued and published pursuant to section 703(c)(2) of the Act and 19 CFR 351.205(f)(1).

Dated: May 9, 2019.
Jeffrey I. Kessler,
Assistant Secretary for Enforcement and Compliance.

[FR Doc. 2019-10276 Filed 5-16-19; 8:45 am]

BILLING CODE 3510-DS-P